Title 3—

The President

Proclamation 10659 of October 27, 2023

National First Responders Day, 2023

By the President of the United States of America

A Proclamation

Every day, Americans across the country witness the absolute courage and selfless sacrifice of our first responders. Whether they are police officers and sheriff's deputies protecting our communities; firefighters running into burning buildings; or emergency medical technicians, paramedics, 911 dispatchers, 988 crisis responders, and other public health workers providing emergency care, these heroes are always there for us when we need them. On National First Responders Day, we honor and celebrate these extraordinarily brave women and men who put themselves in harm's way to keep our Nation safe.

Today we ask more of our first responders than ever before. Law enforcement officers who serve and defend communities across America are constantly confronted with dangerous threats. Firefighters face growing challenges as climate change makes deadly fires more frequent and ferocious. Relief workers are responding to public emergencies that have no precedent. Emergency medical service providers are working longer hours since the pandemic while taking on new roles and risks. Yet every day, our first responders answer the call while seldom seeking recognition in return, irrespective of the personal toll.

My Administration is committed to supporting and protecting our Nation's first responders. That is why I signed the American Rescue Plan, which provides States, cities, and Tribes with billions of dollars to retain and hire more law enforcement officers, firefighters, and emergency health providers; pay overtime and bonuses; and keep communities safe. Last year I was proud to sign into law the most sweeping gun safety bill in nearly 30 years to ensure our officers are not out-gunned on the streets. We are also strengthening background checks for gun purchasers, cracking down on illegal gun sales, and reining in ghost guns that are frequently used in violent crimes. In 2021, I signed into law the Protecting America's First Responders Act, expanding death, disability, and education benefits for first responders killed or permanently disabled in the line of duty as well as their families.

In addition, I secured $600 million in my Bipartisan Infrastructure Law package to boost Federal firefighter pay and increased the minimum wage to $15 an hour—a critical first step in giving these heroes the pay, respect, and dignity they deserve. Meanwhile, we are supporting crisis response efforts through my Investing in America agenda, which includes funding to improve community resilience to natural disasters. My Administration also launched the National Firefighter Registry for Cancer, the largest effort ever undertaken to understand and reduce the risk of cancer among firefighters. I was proud to sign the Federal Firefighters Fairness Act of 2022 to provide access to job-related disability benefits to firefighters diagnosed with certain kinds of cancer or lung disease as well as legislation funding research on mitigating the risks firefighters face from toxic PFAS—so-called “forever chemicals”—while ensuring the Department of Defense will no longer purchase gear that contains PFAS as soon as an alternative is available.

Today and every day, we thank our first responders for their immeasurable service and recommit to giving them the tools they need to succeed. We remember the patriots who lost their lives running toward danger to protect others. We honor the families of the first responders who continue to sacrifice so their loved ones can serve the rest of us and keep our communities safe. These heroes possess a rare commitment to their fellow Americans. They represent the best of who we are, and they are a big reason why I have never been more optimistic about our country's future.

NOW, THEREFORE, I, JOSEPH R. BIDEN JR., President of the United States of America, by virtue of the authority vested in me by the Constitution and the laws of the United States, do hereby proclaim October 28, 2023, as National First Responders Day. I call upon all the people of the United States to observe this day with appropriate programs, ceremonies, and activities to honor our brave first responders and to pay tribute to those who have lost their lives in the line of duty.

IN WITNESS WHEREOF, I have hereunto set my hand this twenty-seventh day of October, in the year of our Lord two thousand twenty-three, and of the Independence of the United States of America the two hundred and forty-eighth.

[FR Doc. 2023-24246

Filed 10-31-23; 8:45 am]

Billing code 3395-F4-P